DEPARTMENT OF DEFENSE

Department of the Army

Notice of Intent To Prepare an Environment Impact Statement (EIS) for Construction of the Cadet Library-Learning Center and Other Activities to the Cadet Zone Within the United States Military Academy (USMA), West Point, NY

AGENCY: U.S. Military Academy, Department of the Army, DoD.

ACTION: Notice of intent.

SUMMARY: This announces the intention of the USMA, West Point, to prepare an EIS for the construction of a new Cadet Library-Learning Center to upgrade information access, teaching, and research facilities at the USMA. The purpose of this EIS is to evaluate the environmental impacts associated with the construction of the Cadet Library-Learning Center, and other activities within the Cadet Zone.

ADDRESSES: Written comments or suggestions on the scope of the EIS and questions concerning the proposed project may be forwarded to Mr. Alan B. Bjornsen, CEP, NEPA Coordinator, U.S. Military Academy, West Point, ATTN: MAEN-E-I, Directorate of Housing and Public Works, Building 667, Ruger Road, West Point, New York 10996.

FOR FURTHER INFORMATION CONTACT: Mr. Bjornsen at (845) 938-4129; by fax at (845) 938-7046 or by email at ya2303@exmail.usma.army.mil.

SUPPLEMENTARY INFORMATION: The purposes of the proposed action are to construct a new Cadet Library-Learning Center, to demolish obsolete structures that no longer contribute to the USMA mission, and to construct new facilities to support the USMA mission and modernize the Cadet Zone. This action is needed to fulfill current and future needs for library and learning space to maintain institutional accreditation and academic excellence, to upgrade existing structures to meet life safety requirements, and to update existing cadet facilities that are over 30 years old.

The USMA is proposing to construct a new Library-Learning Center on the Plain and to modify Bartlett (Science) Hall and the existing library. This will modernize and expand teaching and research laboratories and classrooms to provide necessary floor space, information resources and support facilities. Improvements in the information resources and support facilities are needed to maintain USMA's accreditation as a college. As part of a general improvement of the Cadet Zone area, the USMA is also considering renovation or demolition of obsolete structures within the Cadet Zone, including barracks renovations, upgrades, refurbishment and renovation of Bartlett Hall to enhance classroom and laboratory facilities, and the continuation of on-going maintenance projects.

The no action alternative will be evaluated as well as other alternatives (options) developed as a result of public input and environmental analysis of the proposed projects during the preparation of the Draft EIS. These options may include alternative sites, alternative facility configuration, alternative size, whole and partial implementation, and other modifications.

Public involvement: An interested parties meeting was held in December 2001 at the USMA to discuss the scope of the EIS and any potential data gaps. It is also anticipated that USMA will hold a public scoping meeting at the USMA to solicit both oral and written comments from interested parties. Scoping documents will be made available two weeks in advance of the scheduled public scoping meeting. Public scoping meeting date and time will be advertised in advance in local newspapers and meeting announcement letters will be sent to potentially interested parties. USMA plans to issue a Draft EIS in the spring 2003 timeframe with the availability of the draft being announced in the Federal Register and other media, as well as being provided to the public, organizations and agencies.

Dated: April 22, 2002.
Michael L. Cain,
Acting Deputy Assistant Secretary of the Army (Environment, Safety and Occupational Health) OASA(I&E).

[FR Doc. 02-10270 Filed 4-25-02; 8:45 am]

BILLING CODE 3710-08-M